DEPARTMENT OF HEALTH AND HUMAN SERVICES

National Institutes of Health

National Institute on Aging; Amended Notice of Meeting

Notice is hereby given of a change in the meeting of the National Institute on Aging Special Emphasis Panel, February 14, 2022, 1:00 p.m. to 3:30 p.m., National Institute on Aging, Gateway Building, 7201 Wisconsin Avenue, Suite 2W200, Bethesda, MD 20892, which was published in the Federal Register on December 16, 2021, FR Doc 2021-27280, 86 FR 71512.

The meeting notice is amended to change the date of the meeting from February 14, 2022 to February 24, 2022. The meeting is closed to the public.

Dated: January 7, 2022.
Miguelina Perez,
Program Analyst, Office of Federal Advisory Committee Policy.

[FR Doc. 2022-00483 Filed 1-11-22; 8:45 am]

BILLING CODE 4140-01-P